DEPARTMENT OF DEFENSE

Department of the Army

Reserve Officers' Training Corps Program Subcommittee; Meeting

AGENCY: Department of the Army, DoD.

ACTION: Notice of open meeting.

SUMMARY: In accordance with section 10(a)(2) The Federal Advisory Committee Act (5 U.S.C., App. 2), announcement is made of the following meeting:

Name of Committee: Reserve Officers' Training Corps (ROTC) Program Subcommittee.

Dates of Meeting: June 25-28, 2002.

Time: 8 a.m.-5 p.m. (June 25, 2002), 8 a.m.-12 p.m. (June 26, 2002), 8 a.m.-5 p.m. (June 27, 2002).

Location: Fort Lewis, Tacoma, WA.

Proposed Agenda: Review and discuss status of Army ROTC since the July 2001 meeting, held at the Pentagon, Washington, DC, and tour and observe ROTC cadet training at the National Advanced Leadership Camp (NALC), Fort Lewis, WA.

FOR FURTHER INFORMATION CONTACT: Commander, U.S. Army Cadet Command, ATTN: ATCC-TT (Mrs. Johnson), Fort Monroe, VA 23651. Telephone number is (757) 788-4586.

SUPPLEMENTARY INFORMATION: This meeting is open to the public. Any interested person may attend, appear before, or file statements with the committee.

Luz D. Ortiz,
Army Federal Register Liaison Officer.

[FR Doc. 02-13047 Filed 5-23-02; 8:45 am]

BILLING CODE 3710-08-M